DEPARTMENT OF TRANSPORTATION

Coast Guard

33 CFR Part 117

[CGD07-01-059]

Drawbridge Operation Regulations: State Road A1A (North Bridge) Drawbridge, Atlantic Intracoastal Waterway, Fort Pierce, Florida

AGENCY: Coast Guard, DOT.

ACTION: Notice of temporary deviation from regulations.

SUMMARY: The Commander, Seventh Coast Guard District, has approved a temporary deviation from the regulations governing the operation of the State Road A1A (North Bridge) Drawbridge across the Atlantic Intracoastal Waterway, mile 964.8, Fort Pierce, Florida. This deviation allows the bridge owner to provide single leaf openings from 8:30 a.m. until 4:30 p.m., on July 23, 2001 through July 25, 2001. Double leaf openings shall be provided with a two-hour advance notice. This temporary deviation is required to allow the bridge owner to safely complete emergency repairs to the bridge decking.

DATES: This deviation is effective from 8:30 a.m., July 23, 2001, through 4:30 p.m., July 25, 2001.

ADDRESSES: Material received from the public, as well as documents indicated in this preamble as being available in the docket, will become part of this docket and will be available for inspection or copying at Commander (obr), Seventh Coast Guard District, 909 S.E. 1st Avenue, Miami, FL 33131 between 7:30 a.m. and 4 p.m., Monday through Friday, except Federal Holidays.

FOR FURTHER INFORMATION CONTACT: Mr. Barry Dragon, Chief, Operations Section, Seventh Coast Guard District, Bridge Section at (305) 415-6743.

SUPPLEMENTARY INFORMATION: The State Road A1A (North Bridge) Drawbridge across the Atlantic Intracoastal Waterway at Fort Pierce, Florida, is a double leaf bridge with a vertical clearance of 26 feet above mean high water (MHW) measured at the fenders in the closed position with a horizontal clearance of 90 feet. The current operating regulation in 33 CFR 117.5 requires the draw to open on signal.

On June 27, 2001, the drawbridge owner requested a deviation from the current operating regulations to allow the owner to complete emergency repairs to the corroded decking.

The District Commander has granted a temporary deviation from the operating requirements listed in 33 CFR 117.5 for the purpose of completing these repairs. Under this deviation, the State Road A1A (North Bridge) shall operate on single leaf from 8:30 a.m. to 4:30 p.m. from July 23, 2001 through July 25, 2001. Double leaf openings shall be provided with two hours advance notice.

Dated: June 28, 2001.
Greg E. Shapley,
Chief, Bridge Administration, Seventh Coast Guard District.

[FR Doc. 01-17388 Filed 7-10-01; 8:45 am]

BILLING CODE 4910-15-P